FEDERAL MARITIME COMMISSION

Performance Review Board

AGENCY: Federal Maritime Commission.

ACTION: Notice.

SUMMARY: Notice is hereby given of the names of the members of the Performance Review Board.

FOR FURTHER INFORMATION CONTACT: William “Todd” Cole, Director Office of Human Resources, Federal Maritime Commission, 800 North Capitol Street NW., Washington, DC 20573, (202) 523-5773.

SUPPLEMENTARY INFORMATION: Sec. 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

The Members of the Performance Review Board Are

1. Rebecca F. Dye, Commissioner

2. Daniel B. Maffei, Commissioner

3. William P. Doyle, Commissioner

4. Mary T. Hoang, Chief of Staff

5. Clay G. Guthridge, Chief Administrative Law Judge

6. Erin M. Wirth, Administrative Law Judge

7. Florence A. Carr, Director, Bureau of Trade Analysis

8. Rebecca A. Fenneman, Director, Office of Consumer Affairs & Dispute Resolution Services

9. Karen V. Gregory, Managing Director

10. Peter J. King, Director, Assistant Managing Director

11. Sandra L. Kusumoto, Director, Bureau of Certification and Licensing

12. Tyler J. Wood, General Counsel

Rachel E. Dickon,
Assistant Secretary.

[FR Doc. 2017-11976 Filed 6-8-17; 8:45 am]

BILLING CODE 6731-AA-P